FEDERAL MARITIME COMMISSION

Ocean Transportation Intermediary License; Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

Quick Freight Group, Inc. d/b/a Accufreight Group, 147-35 Farmers Blvd., #201, Jamaica, NY 11434, Officers: Han Goo Choi, President (Qualifying Individual)

Sunfreight Cargo International, Inc., 3541 Taffrail Lane, Oxnard, CA 93035, Officers: Paulino J. Gerardo, CFO (Qualifying Individual), Rolando P. Gipulan, President

Extrans International U.S.A., 758 Glasgow Avenue, 2nd Floor, Inglewood, CA 90301, Officers: Andy Song, Treasurer/Managing Director (Qualifying Individual), Kyu Seung Shin, CEO

Scorpion Express Line Corp., 4995 NW 72 Avenue, Suite 406, Miami, FL 33166, Officers: Ricardo Amable, President (Qualifying Individual), Raul Campos, Vice President

Hemisphere International Shipping, Inc., P.O. Box 13401, Santvrie, Puerto Rico 00908, Officers: Wayne M. Siegel, Vice President (Qualifying Individual)

Non-Vessel Operating Common Carrier and Ocean Freight Forwarder Transportation Intermediary Applicant

STS North America Inc., 12727 NE 20th Street, Suite 23, Bellevue, WA 98005, Officers: Nickolay Nickolaychuk, Director (Qualifying Individual), Rustam Yuldashev, Director

Ocean Freight Forwarder—Ocean Transportation Intermediary Applicant

Shoreline Exprss, Inc., 13231 Eastern Avenue, Suite No. 3 Palmetto, FL 34221, Officers: Mildred Reba Hunt, Secretary (Qualifying Individual), Timmy S. Adams, President

Dated: June 1, 2001.
Bryant L. VanBrakle,
Secretary.

[FR Doc. 01-14297 Filed 6-6-01; 8:45 am]

BILLING CODE 6730-01-P